DEPARTMENT OF THE TREASURY

Customs Service

[T.D. 00-18]

Geographic Boundaries of Customs Brokerage, Cartage, and Lighterage Districts

AGENCY: Customs Service, Department of the Treasury.

ACTION: General notice.

SUMMARY: This document informs the public of the geographic areas covered for purposes of customs broker permits and for certain cartage and lighterage purposes where the word “district” appears in the Customs Regulations.

FOR FURTHER INFORMATION CONTACT: Gina Grier, Office of Regulations and Rulings (202) 927-2320.

SUPPLEMENTARY INFORMATION:

Background

In Treasury Decisions 95-77 and 95-78 published in the Federal Register on September 27, 1995, at 60 FR 50008 and 60 FR 50020, respectively, Customs amended its regulations to reflect its new organizational structure. Concerning this reorganization, Customs pointed out that, although the concepts of districts and regions would, for the most part, be eliminated, they would still exist for certain limited purposes concerning customs broker permits and cartage and lighterage licensing. In addition, in the same issue of the Federal Register Customs published a general notice (60 FR 49971) that informed the public of the geographic areas covered for purposes of those customs broker permit and cartage and lighterage licensing purposes where the word “district” appears in the Customs Regulations. This document republishes the information contained in that 1995 notice.

In the table set forth below, which is arranged alphabetically by State or other geographic location, each of the service ports listed in the left column represents a “district” for purposes of §§ 111.1 and 112.1 of the Customs Regulations (19 CFR 111.1 and 112.1), and the ports of entry listed to the right of each service port represent the ports within that “district.”

Service ports | Ports of entry
Alabama
Mobile | Birmingham. Gulfport, MS. Huntsville. Mobile. Pascagoula, MS.
Alaska
Anchorage | Alcan. Anchorage. Dalton Cache. Fairbanks. Juneau. Ketchikan. Sitka. Skagway. Valdez. Wrangell.
Arizona
Nogales | Douglas. Lukeville. Naco. Nogales. Phoenix. San Luis. Sasabe.
| Tucson.
California
Los Angeles | Los Angeles-Long Beach. LAX. Las Vegas, NV. Port Hueneme. Port San Luis.
San Diego. Andrade. Calexico. Tecate.
San Francisco. Eureka. Fresno. Reno, NV. San Francisco-Oakland.
District of Columbia
Dulles | Alexandria, VA. Dulles, VA.
Florida
Miami | Key West. Miami. Port Everglades. West Palm Beach.
| Tampa. Boca Grande. Fernandina Beach. Jacksonville. Orlando. Panama City. Pensacola. Port Canaveral. Port Manatee. St. Petersburg. Tampa.
Georgia
Savannah | Atlanta. Brunswick. Savannah.
Hawaii
Honolulu | Hilo. Honolulu. Kahului Nawilliwili-Port Allen.
Illinois
Chicago | Chicago. Davenport, IA-Moline and Rock Island. Des Moines, IA. Omaha NE. Peoria. Rockford.
Louisiana
New Orleans | Baton Rouge. Chattanooga, TN. Gramercy. Greenville, MS. Knoxville, TN. Lake Charles. Little Rock-North Little Rock, AR. Memphis, TN. Morgan City. Nashville, TN. New Orleans. Shreveport-Bossier City. Vicksburg, MS.
Maine
Portland | Bangor. Bar Harbor. Bath. Belfast. Bridgewater. Calais. Eastport. Fort Fairfield. Fort Kent. Houlton. Jackman. Jonesport. Limestone. Madawaska. Portland. Portsmouth, NH. Rockland. Van Buren. Vanceboro.
Maryland
Baltimore | Annapolis.
| Baltimore.
| Cambridge.
Massachusetts
Boston | Boston.
| Bridgeport, CT.
| Fall River.
| Gloucester.
| Hartford, CT.
| Lawrence.
| New Bedford.
| New Haven, CT.
| New London, CT.
| Plymouth.
| Salem.
| Springfield.
| Worcester.
Michigan
Detroit | Battle Creek.
| Detroit.
| Grand Rapids.
| Muskegon.
| Port Huron.
| Saginaw-Bay City-Flint.
| Sault Ste. Marie.
Minnesota
Duluth | Ashland, WI.
| Duluth and Superior, WI.
| Grand Portage.
| International Falls-Ranier.
Minneapolis. | Minneapolis-St. Paul.
Missouri
St. Louis | Kansas, City
| St. Joseph.
| St. Louis.
| St. Wichita.
Montana
Great Falls | Butte.
| Del Bonita.
| Denver, CO.
| Eastport, ID.
| Great Falls.
| Morgan.
| Opheim.
| Piegan.
| Porthill, ID.
| Raymond.
| Roosville.
| Salt Lake City, UT.
| Scobey.
| Sweetgrass.
| Turner.
| Whitetail.
| Whitlash.
New York
Buffalo | Buffalo-Niagara Falls.
| Oswego.
| Rochester.
| Sodus Point.
| Syracuse.
| Utica.
Champlain | Alexandria Bay.
| Cape Vincent.
| Champlain-Rouses Point.
| Clayton.
| Massena.
| Ogdensburg.
| Trout River.
JFK/New York/Newark | Albany.
| New York/Newark, NJ.
| JFK.
| Perth Amboy, NJ.
North Carolina
Charlotte | Beaufort-Morehead City.
| Charlotte.
| Durham.
| Reidsville.
| Wilmington.
| Winston-Salem.
North Dakota
Pembina | Ambrose.
| Antler.
| Baudette, MN.
| Carbury.
| Dunseith.
| Fortuna.
| Hannah.
| Hansboro.
| Maida.
| Neche.
| Noonan.
| Northgate.
| Noyes, MN.
| Pembina.
| Pinecreek, MN.
| Portal.
| Roseau, MN.
| Sarles.
| Sherwood.
| St. John.
| Walhalla.
| Warroad, MN.
| Westhope.
Ohio
Cleveland | Ashtabula/Conneaut.
| Cincinnati-Lawrenceburg, IN.
| Cleveland.
| Columbus.
| Dayton.
| Erie, PA.
| Indianapolis, IN.
| Louisville, KY.
| Owensboro, KY-Evansville, IN.
| Toledo-Sandusky.
Oregon
Portland | Astoria.
| Boise, ID.
| Coos Bay.
| Longview.
| Newport.
| Portland
Pennsylvania
Philadelphia | Harrisburg.
| Lehigh Valley.
| Philadelphia-Chester, PA and Wilmington, DE.
| Pittsburgh.
| Wilkes-Barre/Scranton.
Puerto Rico
San Juan | Aquadilla.
| Fajardo.
| Guanica.
| Humacao.
| Jobos.
| Mayaguez.
| Ponce.
| San Juan.
Rhode Island
Providence | Newport.
| Providence.
South Carolina
Charleston | Charleston.
| Columbia.
| Georgetown.
| Greenville-Spartenburg.
Texas
Dallas | Amarillo.
| Austin.
| Dallas/Fort Worth.
| Lubbock.
| Oklahoma City, OK.
| San Antonio.
| Tulsa, OK.
El Paso | Albuquerque, NM.
| Columbus, NM.
| El Paso.
| Fabens.
| Presidio.
| Santa Teresa, NM.
Houston | Houston-Galveston.
Port Arthur * | Port Arthur.
Laredo | Brownsville.
| Del Rio.
| Eagle Pass.
| Hidalgo.
| Laredo.
| Progreso.
| Rio Grande City.
| Roma.
Vermont
St. Albans | Beecher Falls.
| Burlington.
| Derby Line.
| Highgate Springs-Alburg.
| Norton.
| Richford.
| St. Albans.
Virginia
Norfolk | Charleston, WV.
| Front Royal.
| Norfolk-Newport News.
| Richmond-Petersburg.
Virgin Islands, U.S.
Charlotte Amalie | Charlotte Amalie, St. Thomas.
| Christiansted, St. Croix.
| Coral Bay, St. John.
| Cruz Bay, St. John.
| Frederiksted, St. Croix.
Washington
Seattle | Aberdeen.
| Blaine.
| Boundary.
| Danville.
| Ferry.
| Frontier.
| Laurier.
| Lynden.
| Metaline Falls.
| Nighthawk.
| Oroville.
| Point Roberts.
| Puget Sound.
| Spokane.
| Sumas.
Wisconsin
Milwaukee | Green Bay.
| Manitowoc.
| Marinette.
| Milwaukee.
| Racine.
| Sheboygan.
* Not a Service Port

Dated: March 9, 2000.
Stuart P. Seidel,
Assistant Commissioner, Office of Regulations and Rulings.

[FR Doc. 00-6263 Filed 3-14-00; 8:45 am]

BILLING CODE 4820-02-P